DEPARTMENT OF COMMERCE

International Trade Administration

[A-570-836]

Glycine From the People's Republic of China: Final Results of the Expedited Sunset Review of the Antidumping Duty Order

AGENCY: Enforcement and Compliance, International Trade Administration, Department of Commerce.

SUMMARY: As a result of this sunset review, the Department of Commerce (the Department) finds that revocation of the antidumping duty order on glycine from the People's Republic of China (PRC) would be likely to lead to continuation or recurrence of dumping at the rate identified in the “Final Results of Review” section of this notice.

FOR FURTHER INFORMATION CONTACT: Dena Crossland, AD/CVD Operations, Office VI, Enforcement and Compliance, U.S. Department of Commerce, 1401 Constitution Avenue NW., Washington, DC 20230; telephone: (202) 482-3362.

DATES: Effective December 8, 2016.

SUPPLEMENTARY INFORMATION:

Background

On March 29, 1995, the Department published the antidumping duty order on glycine from the PRC.¹ On August 1, 2016, the Department initiated a sunset review of the Order in accordance with section 751(c) of the Tariff Act of 1930, as amended (the Act).² On August 8, 2016, the Department received complete notices of intent to participate in the sunset review from GEO Specialty Chemicals, Inc. (GEO or domestic interested party) and Chattem Chemicals, Inc. within the deadline specified in 19 CFR 351.218(d)(1)(i). On August 25, 2016, Chattem Chemicals, Inc. withdrew its intent to appear as a party to this review. GEO is a producer of a domestic like product in the United States and, accordingly, is a domestic interested party pursuant to section 771(9)(C) of the Act.

¹ See Glycine from the People's Republic of China: Antidumping Duty Order, 60 FR 16116 (March 29, 1995) (Order).

² See Initiation of Five-Year (“Sunset”) Review, 81 FR 50462 (August 1, 2016).

On August 30, 2016, the Department received an adequate substantive response to the notice of initiation from GEO within the 30-day deadline specified in 19 CFR 351.218(d)(3)(i). The Department did not receive any responses from the respondent interested parties, i.e., glycine producers and exporters from the PRC. On the basis of the notice of intent to participate and adequate substantive response filed by the domestic interested party and no response from any respondent interested party, the Department has conducted an expedited sunset review of the Order pursuant to section 751(c)(3)(B) of the Act and 19 CFR 351.218(e)(1)(ii)(C).

Scope of the Order

The product covered by the order is glycine, which is a free-flowing crystalline material, like salt or sugar. Glycine is produced at varying levels of purity and is used as a sweetener/taste enhancer, a buffering agent, reabsorbable amino acid, chemical intermediate, and a metal complexing agent. This order covers glycine of all purity levels. Glycine is currently classified under subheading 2922.49.4020 of the Harmonized Tariff Schedule of the United States (HTSUS). Although the HTSUS subheading is provided for convenience and Customs purposes, the written description of the merchandise under the order is dispositive.³

³ In a separate scope ruling, the Department determined that D(-) Phenylglycine Ethyl Dane Salt is outside the scope of the order. See Notice of Scope Rulings, 62 FR 62288 (November 21, 1997).

Analysis of Comments Received

The issues discussed in the Decision Memorandum ⁴ are the likelihood of continuation or recurrence of dumping, and the magnitude of the margin of dumping likely to prevail if the Order were revoked. Parties can find a complete discussion of all issues raised in this review and the corresponding recommendations in the Decision Memorandum which is on file electronically via Enforcement and Compliance's Antidumping and Countervailing Duty Centralized Electronic Service System (ACCESS). ACCESS is available to registered users at https://access.trade.gov and is available to all parties in the Central Records Unit in room B8024 of the main Commerce building. In addition, a complete version of the Decision Memorandum can be accessed directly on the Internet at http://trade.gov/enforcement/frn. The signed Decision Memorandum and electronic versions of the Decision Memorandum are identical in content.

⁴ See Department Memorandum, “Issues and Decision Memorandum for the Expedited Sunset Review of the Antidumping Duty Order on Glycine from the People's Republic of China; Final Results,” dated concurrently with this notice (Decision Memorandum).

Final Results of Review

Pursuant to sections 752(c)(1) and (3) of the Act, we determine that revocation of the Order would be likely to lead to continuation or recurrence of dumping up to the following weighted-average percentage margin:

Exporter/producer | Margin (percent)
PRC-Wide Entity (all producers and exporters) | 155.89

Administrative Protective Order

This notice also serves as the only reminder to parties subject to administrative protective order (APO) of their responsibility concerning the return or destruction of proprietary information disclosed under APO in accordance with 19 CFR 351.305. Timely notification of the return of destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: November 28, 2016.
Paul Piquado,
Assistant Secretary for Enforcement and Compliance.

[FR Doc. 2016-29400 Filed 12-7-16; 8:45 am]

BILLING CODE 3510-DS-P